DEPARTMENT OF DEFENSE

Department of the Navy

Meeting of the U.S. Naval Academy Board of Visitors; Corrections

AGENCY: Department of the Navy, U.S. Department of Defense (DoD).

ACTION: Notice of Partially Closed Meeting; corrections.

SUMMARY: The Department of the Navy published a document in the Federal Register of November 12, 2020, to announce that the Federal Advisory Committee meeting of the U.S. Naval Academy Board of Visitors will take place. Due to expected health directives in light of COVID-19, the public can no longer be accommodated to attend the meeting in person. The meeting will be held virtually. The document contained incorrect times and venues.

FOR FURTHER INFORMATION CONTACT: Major Raphael Thalakottur, USMC, Executive Secretary to the Board of Visitors, Office of the Superintendent, U.S. Naval Academy, Annapolis, MD 21402-5000, 410-293-1503, thalakot@usna.edu, or visit https://www.usna.edu/PAO/Superintendent/bov.php.

SUPPLEMENTARY INFORMATION:

Correction

In the Federal Register notice of November 12, 2020, in FR Vol. 85, No 219, on page 71889, the following corrections are made:

1. On page 71889, in the second column, correct the Dates caption to read:

DATES: Open virtually to the public, December 7, 2020, from 10 a.m. to 11:30 a.m. Closed to the public, December 7, 2020, from 11:30 a.m. to 12 p.m.

2. On page 71889, in the second column, correct the Addresses caption to read:

ADDRESSES: This a virtual meeting that will be broadcasted live from the United States Naval Academy in Annapolis, Maryland. Escort is not required.

3. On page 71889, in the second column, correct the Supplementary Information caption to read:

SUPPLEMENTARY INFORMATION: This meeting is being held under the provisions of the Federal Advisory Committee Act (FACA) of 1972 (5 U.S.C., Appendix, as amended), the Government in the Sunshine Act of 1976 (5 U.S.C. 552b, as amended), the General Services Administration's (GSA) Federal Advisory Committee Management Final Rule (41 CFR part 102-3).

Purpose of Meeting: The U.S. Naval Academy Board of Visitors will meet to make such inquiry, as the Board deems necessary, into the state of morale and discipline, the curriculum, instruction, physical equipment, fiscal affairs, and academic methods of the Naval Academy.

Agenda: Proposed meeting agenda for December 7, 2020.

0930-1000 Members log on (Broadcasted to Public)

1000 Call to Order (Broadcasted to Public)

1000-1130 Business Session (Broadcasted to Public)

1130-1200 Executive Session (Closed to Public)

Current details on the board of visitors may be found at https://www.usna.edu/PAO/Superintendent/bov.php.

The executive session of the meeting from 11:30 a.m. to 12 p.m. on December 7, 2020, will consist of discussions of new and pending administrative or minor disciplinary infractions and non-judicial punishments involving midshipmen attending the Naval Academy, to include but not limited to, individual honor or conduct violations within the Brigade, the disclosure of which would constitute a clearly unwarranted invasion of personal privacy. For this reason, the executive session of this meeting will be closed to the public, as the discussion of such information cannot be adequately segregated from other topics, which precludes opening the executive session of this meeting to the public. Accordingly, the Secretary of the Navy, in consultation with the Department of the Navy General Counsel, has determined in writing that the meeting shall be partially closed to the public because the discussions during the executive session from 11:30 a.m. to 12 p.m. will be concerned with matters protected under sections 552b(c) (5), (6), and (7) of title 5, United States Code.

Authority: 5 U.S.C. 552b.

Meeting Accessibility: Pursuant to FACA and 41 CFR 102-3.140, this meeting is virtually open to the public. This meeting will be broadcasted live from the United States Naval Academy to include audio and video. The broadcast will be close captioned for the duration of the public portion of the meeting. The link to view the meeting will be posted at https://www.usna.edu/PAO/Superintendent/bov.php forty-eight hours prior to the meeting. Due to expected health directives in light of COVID-19, the public cannot be accommodated to attend the meeting in person.

Written Statements: Per Section 10(a)(3) of the FACA and 41 CFR 102-3.105(j) and 102-3.140, interested persons may submit a written statement for consideration at any time, but should be received by the Designated Federal Officer at least 10 business days prior to the meeting date so that the comments may be made available to the Board for their consideration prior to the meeting. Written statements should be submitted via mail to 121 Blake Rd, Annapolis, MD 21402. Please note that since the Board operates under the provisions of the FACA, as amended, all submitted comments and public presentations will be treated as public documents and will be made available for public inspection, including, but not limited to, being posted on the board website.

Dated: November 19, 2020.
K.R. Callan,
Commander, Judge Advocate General's Corps, U.S. Navy, Federal Register Liaison Officer.

[FR Doc. 2020-26007 Filed 11-24-20; 8:45 am]

BILLING CODE 3810-FF-P